DEPARTMENT OF THE INTERIOR

National Park Service

[NPS-WASO-NAGPRA-17072; PPWOCRADN0-PCU00RP14.R50000]

Notice of Intent To Repatriate Cultural Items: U.S. Department of Agriculture, Forest Service, Cherokee National Forest, Cleveland, TN

AGENCY: National Park Service, Interior.

ACTION: Notice.

SUMMARY: The U.S. Department of Agriculture (USDA), Forest Service, Cherokee National Forest, in consultation with the appropriate Indian tribes or Native Hawaiian organizations, has determined that the cultural items listed in this notice meet the definition of unassociated funerary objects. Lineal descendants or representatives of any Indian tribe or Native Hawaiian organization not identified in this notice that wish to claim these cultural items should submit a written request to the USDA Forest Service, Cherokee National Forest. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the USDA Forest Service, Cherokee National Forest at the address in this notice by December 17, 2014.

ADDRESSES: Mr. JaSal Morris, Forest Supervisor, Supervisor's Office, USDA Forest Service, Cherokee National Forest, 2800 Ocoee Street N., Cleveland, TN 37312, telephone (423) 476-9700.

SUPPLEMENTARY INFORMATION: Notice is here given in accordance with the Native American Graves Protection and Repatriation Act (NAGPRA), 25 U.S.C. 3005, of the intent to repatriate cultural items under the control of the USDA Forest Service, Cherokee National Forest, Cleveland, TN, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In 1977 and 1978, 346 cultural items were removed from the Jackson Farm site (40Wg17) in Washington County, TN, by the Forest Service archeologist Dr. Howard Earnest. Dr. Earnest removed human remains at the same time, but the human remains are not associated with these cultural items. Dr. Earnest excavated 20 burial units that were extensively disturbed through massive sheet erosion of the site from flooding of the Nolichucky River in the fall of 1977. The cultural items removed by Dr. Earnest have been curated by Western Carolina University since excavation. The 346 unassociated funerary objects are 292 whole glass beads; 3 half glass beads; 3 marine shell gorgets; 25 tubular brass beads; 1 brass gorget; 1 brass animal effigy pendant with brass tear-shaped pendants; 1 miniature brass effigy axe; 19 mica discs; and 1 brass cone or tinkler.

Based on the location of the Jackson Farm site, it is reasonable to assume a relationship of shared group identity between these cultural items and the Cherokee people, currently represented by the Cherokee Nation, the Eastern Band of Cherokee Indians, and the United Keetoowah Band of Cherokee Indians in Oklahoma.

Determinations Made by the USDA Forest Service Cherokee National Forest

Officials of the USDA Forest Service, Cherokee National Forest have determined that:

• Pursuant to 25 U.S.C. 3001(3)(B), the 346 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Cherokee Nation, the Eastern Band of Cherokee Indians, and the United Keetoowah Band of Cherokee Indians in Oklahoma.

Additional Requestors and Disposition

Lineal descendants or representatives of any Indian tribe or Native Hawaiian organization not identified in this notice that wish to claim these cultural items should submit a written request with information in support of the claim to Mr. JaSal Morris, Forest Supervisor, Supervisor's Office, USDA Forest Service, Cherokee National Forest, 2800 Ocoee Street N., Cleveland, TN 37312, telephone (423) 476-9700, by December 17, 2014. After that date, if no additional claimants have come forward, transfer of control of the unassociated funerary objects to the Cherokee Nation, the Eastern Band of Cherokee Indians, and the United Keetoowah Band of Cherokee Indians in Oklahoma may proceed.

The USDA Forest Service, Cherokee National Forest is responsible for notifying the Cherokee Nation, the Eastern Band of Cherokee Indians, and the United Keetoowah Band of Cherokee Indians in Oklahoma that this notice has been published.

Dated: October 29, 2014.
Melanie O'Brien,
Acting Manager, National NAGPRA Program.

[FR Doc. 2014-27136 Filed 11-14-14; 8:45 am]

BILLING CODE 4312-50-P